DEPARTMENT OF STATE

[Public Notice: 11556]

Notice of Public Meeting of the U.S. President's Emergency Plan for AIDS Relief (PEPFAR) Scientific Advisory Board

SUMMARY: In accordance with the Federal Advisory Committee Act, the U.S. Department of State announces that the PEPFAR Scientific Advisory Board (SAB) will be holding a virtual meeting of the full board. The meeting will be open to the public; a public comment session will be held during the meeting. Pre-registration is required for both public participation and comment.

DATES: The meeting will be held virtually on Tuesday, November 2, 2021, from approximately 10:00 a.m. to 2:00 p.m. (ET) and on Wednesday, November 3, 2021, from approximately 10:00 a.m. to 2:00 p.m. (ET) utilizing an online technology platform. Requests to attend the meeting must be received no later than October 25, 2021. Requests for reasonable accommodations or to provide public comment must be received no later than October 25, 2021.

ADDRESSES: The meeting will be held virtually via an online platform. Individuals are asked to pre-register at PEPFARSAB. The agenda be sent to all registrants and will also be posted on the PEPFAR SAB web page at www.state.gov/scientific-advisory-board-pepfar one week in advance of the meeting, along with instructions on how to access the meeting.

FOR FURTHER INFORMATION CONTACT: Dr. Sara Klucking, Designated Federal Officer for the SAB, Office of the U.S. Global AIDS Coordinator and Health Diplomacy at KluckingSR@state.gov or (202) 615-4350.

SUPPLEMENTARY INFORMATION:

Background: The SAB is established under the general authority of the Secretary of State and the Department of State (“the Department”) as set forth in 22 U.S.C. 2656, and consistent with the Federal Advisory Committee Act, as amended (5 U.S.C. Appendix). The SAB serves the U.S. Global AIDS Coordinator solely in an advisory capacity concerning scientific, implementation, and policy issues related to the global response to HIV/AIDS.

Agenda: SAB members will be discussing the COVID-19 pandemic and its impact on people living with or at risk of HIV infection; PEPFAR 2020 and 2021 strategies, plans, programs and performance; PEPFAR 2022 strategic updates and Minimum Program Requirements; and PEPFAR technical updates for 2022 including:

• Use of HIV self-testing to monitor HIV seroconversion in persons taking pre-exposure prophylaxis (PrEP);

• implementation of HPV DNA testing as a primary screening method for cervical cancer;

• new monitoring, evaluation and reporting (MER) indicators;

• use of point of care diagnostics and multiplex use of lab instruments;

• updates on mortality-healthy living with HIV;

• addressing key gaps (AGYW, key populations, children).

Registered members of the public will be permitted to participate in a comment period at the end of the meeting in accordance with the Chair's instructions.

Public Participation: Members of the public who wish to participate are asked to register directly at the link listed in the ADDRESSES section or by sending an email to Ms. Crystal Solomon at SolomonCD@state.gov not later than October 25, 2021. Individuals are required to provide their name, email address, and organization. At registration, individuals are also asked to indicate any request for reasonable accommodation and/or a request to provide public comment. Time for public comment may be limited. Requests made after October 25, 2021, will be considered but might not be able to be fulfilled.

Sara Klucking,
Director, Office of Research and Science, Office of the U.S. Global AIDS Coordinator and Health Diplomacy, Office of the Secretary of State.

[FR Doc. 2021-21799 Filed 10-5-21; 8:45 am]

BILLING CODE 4710-10-P